DEPARTMENT OF TRANSPORTATION

Federal Aviation Administration

14 CFR Part 39

[Docket No. 2001-NM-192-AD; Amendment 39-12967; AD 2002-24-02]

RIN 2120-AA64

Airworthiness Directives; Boeing Model 757-200 Series Airplanes

AGENCY: Federal Aviation Administration, DOT.

ACTION: Final rule.

SUMMARY: This amendment adopts a new airworthiness directive (AD), applicable to certain Boeing Model 757-200 series airplanes, that requires repetitive inspections for fatigue cracking of certain areas of the forward and aft frames of the cargo doorways and repair, if necessary. The actions specified by this AD are intended to find and fix such cracking, which could lead to rapid depressurization of the airplane and result in reduced structural integrity of the cargo doorway. This action is intended to address the identified unsafe condition.

DATES: Effective January 7, 2003.

The incorporation by reference of certain publications listed in the regulations is approved by the Director of the Federal Register as of January 7, 2003.

ADDRESSES: The service information referenced in this AD may be obtained from Boeing Commercial Airplane Group, P.O. Box 3707, Seattle, Washington 98124-2207. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Dennis Stremick, Aerospace Engineer, Airframe Branch, ANM-120S, FAA, Seattle Aircraft Certification Office, 1601 Lind Avenue, SW., Renton, Washington 98055-4056; telephone (425) 227-2776; fax (425) 227-1181.

SUPPLEMENTARY INFORMATION: A proposal to amend part 39 of the Federal Aviation Regulations (14 CFR part 39) to include an airworthiness directive (AD) that is applicable to certain Boeing Model 757-200 series airplanes was published in the Federal Register on July 12, 2002 (67 FR 46132). That action proposed to require repetitive inspections for fatigue cracking of certain areas of the forward and aft frames of the cargo doorways, and repair, if necessary.

Comments

Interested persons have been afforded an opportunity to participate in the making of this amendment. Due consideration has been given to the comments received. One commenter states that the proposed AD does not apply to its fleet.

Request To Change Certain Terminology

One commenter states that the terminology throughout the proposed AD which reads, “cargo door frame(s)” should be changed to “cargo doorway frames.” The commenter notes that the structures requiring the inspections are the cutout fuselage frames of the cargo door and not the cargo door frames. The commenter adds that the term “cargo doorway,” as specified in Boeing Alert Service Bulletin 757-53A0080, dated February 3, 2000 (referenced in the proposed AD as the appropriate source of service information for accomplishment of the actions), is a better description.

We agree with the commenter in that the description of the frames of the cargo door should be clarified. We have changed the description throughout this final rule to read, “cargo doorway.”

Explanation of Editorial Change

We have changed the service bulletin citation throughout this final rule to exclude the Evaluation Form. (The form is intended to be completed by operators and submitted to the manufacturer to provide input on the quality of the service bulletin; however, this AD does not include such a requirement.)

Conclusion

After careful review of the available data, including the comments noted above, the FAA has determined that air safety and the public interest require the adoption of the rule with the change previously described. The FAA has determined that this change will neither increase the economic burden on any operator nor increase the scope of the AD.

Interim Action

This is considered to be interim action. The manufacturer has advised that it currently is developing a modification that will address the unsafe condition identified in this AD. Once this modification is developed, approved, and available, the FAA may consider further rulemaking.

Cost Impact

There are approximately 57 airplanes of the affected design in the worldwide fleet. The FAA estimates that 28 airplanes of U.S. registry will be affected by this AD.

For all airplanes: It will take approximately 3 work hours per airplane to do the high frequency eddy current and detailed inspections, at an average labor rate of $60 per work hour. Based on these figures, the cost impact of the inspections required by this AD on U.S. operators is estimated to be $5,040, or $180 per airplane, per inspection cycle.

For Group 3 airplanes: It will take approximately 1 work hour per airplane to do the additional detailed inspection, at an average labor rate of $60 per work hour. Based on these figures, the cost impact of this required inspection on U.S. operators is estimated to be $60 per airplane, per inspection cycle.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2002-24-02 Boeing: Amendment 39-12967. Docket 2001-NM-192-AD.

Applicability: Model 757-200 series airplanes, line numbers 1 through 57 inclusive, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To find and fix fatigue cracking of the cargo doorway frames, which could lead to rapid depressurization of the airplane and result in reduced structural integrity of the cargo doorway, accomplish the following:

Repetitive Inspections

(a) Before the accumulation of 22,000 total flight cycles or within 500 flight cycles after the effective date of this AD, whichever is later: Do the applicable inspections specified in paragraphs (a)(1) and (a)(2) of this AD, per Boeing Alert Service Bulletin 757-53A0080, excluding Evaluation Form, dated February 3, 2000.

(1) For all airplanes: Do detailed and high frequency eddy current (HFEC) inspections for cracking of the doorway frames of the number 1 and 2 cargo doors (includes the frame webs, frame inner and outer chords, bear strap, and skin panels between the upper and lower sills of the cargo doorway). Repeat the detailed inspections every 3,000 flight cycles, and the HFEC inspections every 12,000 flight cycles.

(2) For Group 3 airplanes: Do a detailed inspection for cracking of the doorway frame of the number 3 cargo door. Repeat the inspection every 3,000 flight cycles.

Note 2: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Repair

(b) Before further flight, repair any cracking found in the frame webs, per Boeing Alert Service Bulletin 757-53A0080, excluding Evaluation Form, dated February 3, 2000. If any cracking is found in any other area and the service bulletin specifies to contact Boeing for disposition of those repairs, repair per a method approved by the Manager, Seattle Aircraft Certification Office (ACO), FAA; or per data meeting the type certification basis of the airplane approved by a Boeing Company Designated Engineering Representative (DER) who has been authorized by the Manager, Seattle ACO, to make such findings. For a repair method to be approved, the approval must specifically reference this AD.

Note 3: There is no terminating action currently available for the repetitive inspections required by this AD.

Alternative Methods of Compliance

(c) An alternative method of compliance or adjustment of the compliance time that provides an acceptable level of safety may be used if approved by the Manager, Seattle ACO. Operators shall submit their requests through an appropriate FAA Principal Maintenance Inspector, who may add comments and then send it to the Manager, Seattle ACO.

Note 4: Information concerning the existence of approved alternative methods of compliance with this AD, if any, may be obtained from the Seattle ACO.

Special Flight Permits

(d) Special flight permits may be issued in accordance with sections 21.197 and 21.199 of the Federal Aviation Regulations (14 CFR 21.197 and 21.199) to operate the airplane to a location where the requirements of this AD can be accomplished.

Incorporation by Reference

(e) Except as provided by paragraph (b) of this AD, the actions shall be done per Boeing Alert Service Bulletin 757-53A0080, excluding Evaluation Form, dated February 3, 2000. This incorporation by reference was approved by the Director of the Federal Register in accordance with 5 U.S.C. 552(a) and 1 CFR part 51. Copies may be obtained from Boeing Commercial Airplane Group, P.O. Box 3707, Seattle, Washington 98124-2207. Copies may be inspected at the FAA, Transport Airplane Directorate, 1601 Lind Avenue, SW., Renton, Washington; or at the Office of the Federal Register, 800 North Capitol Street, NW., suite 700, Washington, DC.

Effective Date

(f) This amendment becomes effective on January 7, 2003.

Issued in Renton, Washington, on November 20, 2002.
Ali Bahrami,
Acting Manager, Transport Airplane Directorate, Aircraft Certification Service.

[FR Doc. 02-30342 Filed 12-2-02; 8:45 am]

BILLING CODE 4910-13-P